DEPARTMENT OF THE TREASURY

Alcohol and Tobacco Tax and Trade Bureau

27 CFR Part 9

[Notice No. 47]

RIN 1513—AA77

Proposed Establishment of the Rattlesnake Hills Viticultural Area (2004R-678P)

AGENCY: Alcohol and Tobacco Tax and Trade Bureau, Treasury.

ACTION: Notice of proposed rulemaking.

SUMMARY: The Alcohol and Tobacco Tax and Trade Bureau proposes to establish the Rattlesnake Hills viticultural area in Yakima County in south central Washington State. The proposed 68,500-acre area is totally within the established Columbia Valley viticultural area. We designate viticultural areas to allow vintners to better describe the origin of their wines and to allow consumers to better identify wines they may purchase. We invite comments on this proposed addition to our regulations.

DATES: We must receive written comments on or before August 1, 2005.

ADDRESSES: You may send comments to any of the following addresses:

• Chief, Regulations and Procedures Division, Alcohol and Tobacco Tax and Trade Bureau, Attn: Notice No. 47, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this notice by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Regulations and Procedures Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Rattlesnake Hills Petition

Mr. Gail Puryear, on behalf of himself and ten vineyard and winery owners, submitted a petition to TTB proposing the establishment of the 68,500-acre Rattlesnake Hills viticultural area. It is within the Yakima Valley viticultural area (27 CFR 9.69), which is inside the larger Columbia Valley viticultural area (27 CFR 9.74). As of 2005, the proposed Rattlesnake Hills viticultural area has 1,227 acres of vines in commercial production, according to the petition.

The Rattlesnake Hills name is well documented on State and national maps, including a 1910 USGS map. The proposed boundaries encompass the Rattlesnake Hills name recognition area and the distinguishing features of the region, including topography, soils, and climate.

The south central region of Washington State, home to the Rattlesnake Hills, includes the existing viticultural areas of Red Mountain, Yakima Valley, Walla Walla Valley, and Columbia Valley. The Walla Walla Valley and Columbia Valley viticultural areas extend from southern Washington into northern Oregon.

Name Evidence

The USGS maps for Elephant Mountain, Yakima East, Wapato, Granger NE, Granger NW, and Toppenish all identify the Rattlesnake Hills in Yakima County, Washington. The American Automobile Association (AAA) map for the Oregon and Washington State Series, published February 2003, shows Rattlesnake Hills in south central Washington, between the towns of Yakima and Kennewick. The Washington State Highways 1996-1997 map, published by the Washington State Department of Transportation, shows the Rattlesnake Hills area to the east and west of Highway 241 and south of Highway 24.

The 1910 USGS Zillah map, reprinted in 1935, identifies Rattlesnake Hills along the T12N and T11N township line in ranges R21E and R22E. The map shows no human habitation in the Rattlesnake Hills area, with the settlements of Zillah, Granger, and Sunnyside to the south, along the Yakima River.

A Sunset magazine article in its August 1997 edition, “Bringing home the Harvest—Pacific Northwest,” by Jim McCausland, describes a tour that includes the Yakima, Washington, area and mentions Rattlesnake Hills. The article describes the Roza Canal at the base of the orchard- and vineyard-covered Rattlesnake Hills.

Boundary Evidence

The proposed Rattlesnake Hills viticultural area, the petition explains, is an isolated grape-growing region with boundaries defined by the area's distinctive climate, soils, and topography. The Rattlesnake Hills name applies to the entire area within the proposed boundaries, as found on the USGS maps provided with the petition.

Nancy B. Hultquist, Ph.D., professor of Geography and Land Studies at Central Washington University in Ellensburg, and John F. Hultquist, Ph.D., former Adjunct Assistant Professor of Geography, Central Washington University, prepared the Rattlesnake Hills area's boundary documentation and geographical evidence for the viticultural area petition. This information is provided below.

The proposed Rattlesnake Hills viticultural area, within the larger Yakima Fold Belt, includes a series of asymmetrical anticlines with generally east-west trending, separated by basins. Also, the Rattlesnake Hills range has a steep north-facing side with a gentler south-facing slope. The south side of the range is the northern most region of the proposed viticultural area.

The petition's written boundary description and accompanying USGS maps define the proposed Rattlesnake Hills viticultural area boundaries. The proposed north boundary line of the viticultural area approximates the range's ridgeline, separating the range's south side from the north side. The proposed east boundary line follows the 120° west longitude line and (Bonneville) power lines. The proposed south boundary line meanders along the Sunnyside Canal, which flows southeast from the Yakima River. The terrain to the north of the Sunnyside Canal, and within the proposed boundaries, is hilly and characterized by ridge spurs to the north of the canal. Finally, the proposed west boundary line is a combination of the Sunnyside Canal and Interstate Highway 82.

Elevation is a primary distinguishing feature of the proposed Rattlesnake Hills viticultural area, the petition states. The proposed boundary line, at a minimum 850 feet in elevation, generally corresponds to the upslope of the foothills, as depicted on the USGS maps provided with the petition. Viticulture is considered possible with irrigation between 850 feet and 2,000 feet in elevation, the petition specifies.

Regional elevations below the 850-foot contour line are not conducive to successful viticulture based on damaging spring and fall frosts, heavy winterkill conditions, alkali soils and high water tables. As evidence, the petition states that vineyards planted in the region at elevations below 850 feet failed after years of struggle. The petition includes as an example the Thalheimer vineyard project, two miles south of Sunnyside Canal and close to the city of Granger, which is below 850 feet in elevation. The project lasted ten years, but experienced continued vine damage from winterkill conditions. Also, in another example presented, William Pettit planted chardonnay grapes west of Toppenish on the valley floor, seven miles south of the proposed Rattlesnake Hills viticultural area. The vineyard suffered annual winterkill caused by vines reaching down to perennial water. After only three successful vintages in six years, Mr. Pettit removed the vineyard in 1987.

Distinguishing Features

The proposed Rattlesnake Hills viticultural area's distinguishing features include its geographical orientation among large and small mountain ranges, hillside topography, moderate microclimate, and soils unique to the area.

Geography

The Cascade Range, rising to about 6,000 feet in elevation, runs north to south and divides eastern and western Washington State, as shown on USGS maps and the AAA map for the Oregon and Washington State Series. The high Cascade Range altitudes protect eastern Washington from much of the Pacific Ocean's temperature influence and rainfall, the petition explains.

The Rattlesnake Hills, which vary in elevation from 850 feet to 3,085 feet, create a north flank to the Toppenish Creek/Yakima Valley floor at its immediate south, according to USGS maps and the petition. Also, south central Washington has a series of smaller east-west mountain ranges between the Cascade Range and the Columbia River.

Topography

The Rattlesnake Hills range is oriented east to west. The ridgeline has dissected canyons, terraces, and ridges running south off the main ridge to the Yakima River, as the petition explains and the USGS maps depict. Vineyards are usually on ridges and terraces, and in areas with good air drainage, which lessens frost and winterkill conditions.

The proposed Rattlesnake Hills viticultural area topography includes a multitude of landscapes with differing aspect and hill slope positions, the petition explains. Also, low glacial terraces comprise the balance of the terrain found within the proposed viticultural area. Beyond the proposed boundaries, the rest of the Yakima Valley viticultural area, which surrounds the proposed viticultural area on the east, south and west sides, has a more open and consistent landscape when compared to the Rattlesnake Hills area.

Climate

The Rattlesnake Hills viticultural area petition includes data collected from eleven weather stations in the south central Washington State region, operated by Washington State University (WSU) under the Public Agricultural Weather System (PAWS). Two of the stations, the petition explains, are within the proposed viticultural area. Petition documentation shows the Buena station at 900 feet in elevation and the Outlook station at 1,300 feet in elevation, both within the proposed boundaries. The other nine stations are beyond the proposed Rattlesnake Hills boundaries, but within the south central Washington State region, according to the petition.

The weather data provides an annual average and a 10-year average of the growing degree-day summary for each station, in most cases. (A degree-day is each degree of a day's mean temperature that is above 50 degrees Fahrenheit, which is the minimum temperature required for grapevine growth; see “General Viticulture,” Albert J. Winkler, University of California Press, 1975.)

The chart below shows a 10-year average of the growing degree-day summary for each of the PAWS stations.

Weather station | Degree-day units, 10-year annual average | Location related to Rattlesnake Hills area
Parker | 3133 | 1 mile west.
Wapato | 2540 | 7 miles west.
Moxee | 2096 | 2 miles north.
Sunnyside | 2498 | 2.5 miles east.
Port of Sunnyside | 2554 | 6 miles southeast.
WSU Roza | 2552 | 11 miles southeast.
WSU HQ | 2588 | 14 miles southeast.
Benton City | 3036 | 30 miles southeast.
Badger Canyon | 3297 | 40 miles southeast.
Buena | 2683 | In Rattlesnake Hills.
Outlook | 2870 | In Rattlesnake Hills.

The degree-day temperatures within the proposed Rattlesnake Hills viticultural area vary significantly from the surrounding regions, according to PAWS data. Growing season temperatures are especially warmer in the Red Mountain viticultural area to the east of the proposed viticultural area around Badger Canyon and Benton City. Also, the areas between the Rattlesnake Hills region and Red Mountain have much cooler growing seasons, as documented by the Port of Sunnyside and WSU Roza weather stations.

The Canadian-Polar air brought into eastern Washington by northeastern winds can kill the vines, according to the petition. The proposed Rattlesnake Hills viticultural area is protected from these damaging winds by the Umptanum Ridge, Yakima Ridge, and Rattlesnake Hills that lie to the northeast. The ridges and hills divert the chilling winds eastward toward the Red Mountain and Walla Walla viticultural areas.

Soil

The soils of the proposed Rattlesnake Hills viticultural area differ from soils in other Washington State viticultural areas, according to the petition. The formation of the soils in the Rattlesnake Hills area was influenced by glacial fluvial (water transported) and eolian (wind transported silty loess) soils. The lower layer formation influences include volcanic cobbles and tuffaceous sands from the Ellensburg Formation.

The Rattlesnake Hills elevations at or above 1,100 feet perch beyond the influence of the Missoula Floods, according to the petition. Soils above the flooding influence developed on older volcanic sediments of the Ellensburg Formation. The soil parent materials weathered in a climate with 6 to 12 inches of rainfall annually and a dry summer. The two main soil classifications include Aridosols (desert soils) and Mollisols (prairie soils), according to the “U.S. Soils Taxonomy” (Soil Survey Staff, 1999; Boling, Frazier, and Busacca, 1998).

The Rattlesnake Hills soil is silt-loam or loam at the upper elevations, the petition notes. The characteristic soil textures contrast to the sand, loamy sand, and sand textures of the nearby Prosser Flats, Red Mountain, and Horse Heaven Hills regions.

The primary soils suitable for viticulture within the Rattlesnake Hills area include the Warden Series silt loams and a composite of Harwood-Burke-Wiehl series silt loams. The Warden Series soils, which are very deep and well drained, occupy terraces underlain by glacial fluvial sediments. Also, the Harwood-Burke-Wiehl series, a complex composition of three distinctively different soils, occupies the ridge tops and side slopes of steep hills. The three-soil composition forms from loess (wind-blown, silt-sized material) that overlies remnants of the Ellensburg Formation. The composition is common within the Rattlesnake Hills area, the petition notes, but is seldom found elsewhere in the Yakima Valley region. Also, the soil is shallow, which is in contrast to the uniformly deep, silt-loamy and sandy soils found in the balance of the Yakima Valley viticultural area.

Other soils in the proposed Rattlesnake Hills viticultural area include the Kiona silt loam series in the northwest corner, the petition states. Also, along the top of the Rattlesnake Ridge, the Lickskillet series silt loam and the Starbuck series provide a suitable viticultural environment when irrigation is available.

Common soil characteristics within the proposed Rattlesnake Hills viticultural area include a mesic soil regime, the petition states. The annual soil temperature is between 8 degrees Centigrade and 15 degrees Centigrade. Mean summer soil temperatures vary between 15 degrees Centigrade and 22 degrees Centigrade. Also, the soil pH is consistent, ranging from neutral at pH 6.6 to mildly alkaline at pH 8.4.

The topsoil layer is generally formed by loess and lesser amounts of volcanic ash, according to the petition. When Mount St. Helens erupted in 1980, the Rattlesnake Hills region received between one half-inch and one inch of volcanic ash topsoil.

The northern border of the proposed Rattlesnake Hills viticultural area sits at the highest elevations of the range, as noted on the USGS maps. The north-facing slope of the Rattlesnake Hills, immediately beyond the proposed north boundary line, is covered with Lickskillet, a very stony silt loam on 5 to 45 percent slopes. The very stony soils, steep slopes and lack of irrigation make this terrain unsuitable for viticulture, the petition states.

The eastern border of the proposed Rattlesnake Hills viticultural area starts at the intersection of the Rattlesnake Hills summit with the 120°00′ west longitude line, according to the petition's written boundary description. The boundary line follows the longitude line south to its intersection with the Bonneville power lines and then continues south to the Sunnyside Canal. The topography east of the proposed boundary line is a large basin with Warden Series silt loams on 2 to 5 percent slopes. The area has some Esquatzel silty loam on the same gentle slopes.

Along the southern boundary lines of the proposed Rattlesnake Hills viticultural area, and south beyond Sunnyside Canal, the area changes to large flat bottom terrain and small remnants of glacial terraces, the petition notes. Esquatzel Series silt loams dominate the terrain, according to the “Soil Survey of Yakima County Area, Washington,” (Lenfesty and Reedy, 1985). The area has Warden Series soils that, as the petition explains, are more geologically eroded and on a lower elevation terrain than the Warden Series of the Rattlesnake Hills region to the north.

Past the western border of the proposed Rattlesnake Hills viticultural area, USGS maps note, the hills drop down into the Yakima River. Immediately west of the river, and beyond the petitioned boundaries, lies the valley floor with the Weirman Association soils, as documented in the “Soil Survey of Yakima Indian Reservation Irrigated Area, Washington, Part of Yakima County,” (United States Department of Agriculture, 1976). Continuing westward from the boundary line, the Ashue-Naches Association occupies the bottomland of an older Yakima River flood plain. Also, as the Yakima River Valley inclines westward to Ahtanum Ridge, the prevalent Warden Series soil creates a common link to the Rattlesnake Hills area, according to the petition. However, the Warden Series soil in the Rattlesnake Hills terrain includes the exposure of the Ellensburg Formation. The Ahtanum Ridge soil does not include such an exposure.

Boundary Description

See the narrative boundary description of the petitioned-for viticultural area in the proposed regulatory text published at the end of this notice.

Maps

The petitioners provided the required maps, and we list them below in the proposed regulatory text.

Impact on Current Wine Labels

Part 4 of the TTB regulations prohibits any label reference on a wine that indicates or implies an origin other than the wine's true place of origin. If we establish this proposed viticultural area, its name, “Rattlesnake Hills” will be recognized as a name of viticultural significance. Consequently, wine bottlers using “Rattlesnake Hills” in a brand name, including a trademark, or in another label reference as to the origin of the wine, will have to ensure that the product is eligible to use the viticultural area's name as an appellation of origin. On the other hand, we do not believe that any single part of the proposed viticultural area name standing alone, such as “Rattlesnake,” would have viticultural significance if the new area is established. Accordingly, the proposed part 9 regulatory text set forth in this document specifies only the full “Rattlesnake Hills” name as a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Rattlesnake Hills” for a wine that does not meet the 85 percent standard, the new label will not be approved, and the previously approved label will be subject to revocation, upon the effective date of the approval of the Rattlesnake Hills viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

Because of the potential impact of the establishment of the proposed Rattlesnake Hills viticultural area on wine labels that include the words “Rattlesnake Hills” as discussed above under Impact on Current Wine Labels, we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Although TTB believes that only the full name “Rattlesnake Hills” should be considered to have viticultural significance upon establishment of the proposed new viticultural area, we also invite comments from those who believe that “Rattlesnake” standing alone would have viticultural significance upon establishment of the area. Comments in this regard should include documentation or other information supporting the conclusion that use of “Rattlesnake” on a wine label could cause consumers and vintners to attribute to the wine in question the quality, reputation, or other characteristic of wine made from grapes grown in the proposed Rattlesnake Hills viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

• (1) Be on 8.5- by 11-inch paper;

• (2) Contain a legible, written signature; and

• (3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5-by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or telephone 202-927-2400 to schedule an appointment or to request copies of comments.

For your convenience, we will post this notice and comments we receive on the TTB Web site. We may omit voluminous attachments or material that we consider unsuitable for posting. In all cases, the full comment will be available in the TTB Library. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend title 27 CFR, chapter 1, part 9, as follows:

PART 9—AMERICAN VITICULTURAL AREAS

1. The authority citation for part 9 continues to read as follows:

Authority: 27 U.S.C. 205.

2. Amend subpart C by adding § 9.___ to read as follows:

Subpart C—Approved American Viticultural Areas

§ 9.___ Rattlesnake Hills.

(a) Name. The name of the viticultural area described in this section is “Rattlesnake Hills”. For purposes of part 4 of this chapter, “Rattlesnake Hills” is a term of viticultural significance.

(b) Approved Maps. The eight United States Geological Survey, 1:24,000 scale, topographic maps used to determine the boundaries of the Rattlesnake Hills viticultural area are titled—

(1) Yakima East Quadrangle, Washington—Yakima Co., 1953, Photorevised 1985;

(2) Elephant Mountain Quadrangle, Washington—Yakima Co., 1953, Photorevised 1985;

(3) Granger NW Quadrangle, Washington—Yakima Co., 1965;

(4) Granger NE Quadrangle, Washington—Yakima Co., 1964;

(5) Sunnyside Quadrangle, Washington—Yakima Co., 1965, Photorevised 1978;

(6) Granger Quadrangle, Washington—Yakima Co., 1965;

(7) Toppenish Quadrangle, Washington—Yakima Co., 1958, Photorevised 1985; and

(8) Wapato Quadrangle, Washington—Yakima Co., 1958, Photorevised 1985.

(c) Boundary. The Rattlesnake Hills viticultural area is located in Yakima County, Washington. The area's boundaries are defined as follows—

(1) The point of beginning is on the Yakima East map at the point where a line drawn straight east from the west end of the Wapato Dam on the Yakima River intersects Interstate Highway 82, section 17, T12N/R19E. This line coincides with the boundary of the Yakima Valley viticultural area (27 CFR 9.69). From the beginning point, the Rattlesnake Hills viticultural area boundary line—

(2) Proceeds straight east-southeast, crossing onto the Elephant Mountain map, to the 2,192-foot peak of Elephant Mountain, section 16, T12N/R20E; then

(3) Continues straight southeast, crossing over the northeast corner of the Toppenish map, and continuing onto the Granger NW map, to the 2,186-foot pinnacle of Zillah Peak, section 32, T12N/R21E; then

(4) Continues straight east-southeast, crossing onto the Granger NE map, to the 3,021-foot peak of High Top Mountain, section 32, T12N/R22E; then

(5) Continues straight east-southeast to the 2,879-foot peak in the northeast quadrant of section 3, T11N/R22E, and continues in the same direction in a straight line, to the line's intersection with the 120°00′ west longitude line in section 1 of T11N/R22E along the east margin of the Granger NE map; then

(6) Proceeds straight south along the 120°00′ west longitude line to its intersection with a set of power lines in section 24, T11N/R22E, on the east margin of the Granger NE map; then

(7) Follows the power lines southwest, crossing onto the Sunnyside map, to their intersection with the Sunnyside Canal, section 8, T10N/R22E; then

(8) Follows the meandering Sunnyside Canal generally northwest, crossing over the northeast corner of the Granger map, and continuing over the Granger NW map, the Toppenish map, and onto the Wapato map to the canal's intersection with Interstate Highway 82, section 27 west boundary line, T12N/R19E; then

(9) Follows Interstate Highway 82 northwest for 2.75 miles, crossing onto the Yakima East map, and returns to the point of beginning.

Signed: May 17, 2005.
John J. Manfreda,
Administrator.

[FR Doc. 05-10880 Filed 5-31-05; 8:45 am]

BILLING CODE 4810-31-P